DEPARTMENT OF DEFENSE

Defense Acquisition Regulations System

[Docket DARS-2017-0007; OMB Control Number 0704-0248]

Submission for OMB Review; Comment Request

AGENCY: Defense Acquisition Regulations System, Department of Defense (DoD)

ACTION: Notice.

SUMMARY: The Defense Acquisition Regulations System has submitted to OMB for clearance, the following proposal for collection of information under the provisions of the Paperwork Reduction Act.

DATES: Consideration will be given to all comments received by December 4, 2017.

SUPPLEMENTARY INFORMATION:

Title, Associated Form, and OMB Number: Defense Federal Acquisition Regulation Supplement (DFARS), Appendix F, Material Inspection and Receiving Report; OMB Control Number 0704-0248.

Type of Request: Revision of a currently approved collection.

Affected Public: Businesses or other for-profit and not-for profit institutions.

Respondent's Obligation: Required to obtain or retain benefits.

Reporting Frequency: On occasion.

Number of Respondents: 153,000.

Responses per Respondent: 18, approximately.

Annual Responses: 2,800,000.

Average Burden per Response: .05 hours (3 minutes).

Annual Burden Hours: 140,000 hours.

Needs and Uses: The collection of this information is necessary to process shipping and receipt documentation for goods and services provided by contractors and permit payment under DoD contracts.

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method:

Federal eRulemaking Portal: http://www.regulations.gov. Follow the instructions for submitting comments.

DoD Clearance Officer: Mr. Frederick C. Licari.

Written requests for copies of the information collection proposal should be sent to Mr. Licari at: WHS/ESD Directives Division, 4800 Mark Center Drive, 2nd Floor, East Tower, Suite 03F09, Alexandria, VA 22350-3100.

Jennifer L. Hawes,
Editor, Defense Acquisition Regulations System.

[FR Doc. 2017-23984 Filed 11-2-17; 8:45 am]

BILLING CODE 5001-06-P